DEPARTMENT OF THE INTERIOR

Bureau of Reclamation

Agency Information Collection; Activities Under OMB Review; Comment Request

AGENCY: Bureau of Reclamation, Interior.

ACTION: Notice of renewal of a currently approved collection (OMB No. 1006-0006).

SUMMARY: The Bureau of Reclamation (we, our, or us) has forwarded the following Information Collection Request (ICR) to the Office of Management and Budget (OMB) for review and approval: Certification Summary Form and Reporting Summary Form for Acreage Limitation. The ICR describes the nature of the information collection and its expected cost and burden.

DATES: OMB has up to 60 days to approve or disapprove this information collection, but may respond after 30 days; therefore, public comments must be received on or before June 22, 2011 to assure maximum consideration.

ADDRESSES: Send written comments regarding the burden estimate, or any other aspect of the information collection, including suggestions for reducing the burden, to the Desk Officer for the Department of the Interior at the Office of Management and Budget, Office of Information and Regulatory Affairs, via facsimile to (202) 395-5806, or e-mail to OIRA_DOCKET@omb.eop.gov. A copy of your comments should also be directed to the Bureau of Reclamation, Attention: 84-53000, PO Box 25007, Denver, CO 80225-0007.

FOR FURTHER INFORMATION CONTACT: Stephanie McPhee at (303) 445-2897. The entire Information Collection Request may be found at http://www.reginfo.gov.

SUPPLEMENTARY INFORMATION: Title: Certification Summary Form and Reporting Summary Form for Acreage Limitation, 43 CFR part 426 and 43 CFR part 428.

Abstract: The forms in this information collection are to be used by district offices to summarize individual landholder (direct or indirect landowner or lessee) and farm operator certification and reporting. This information allows us to establish water user compliance with Federal reclamation law, as required under the Reclamation Reform Act of 1982 (RRA), Acreage Limitation Rules and Regulations, 43 CFR part 426, and Information Requirements for Certain Farm Operations In Excess of 960 Acres and the Eligibility of Certain Formerly Excess Land, 43 CFR part 428.

Minor editorial changes and correction of typographical errors were the only changes made to the forms and instructions prior to the 60-day comment period initiated by the notice published in the Federal Register (75 FR 59739, Sept. 28, 2010). No public comments were received in response to that notice. The proposed revisions to the RRA forms will be effective in the 2012 water year.

Frequency: Annually.

Respondents: Contracting entities that are subject to the acreage limitation provisions of Federal reclamation law.

Estimated Total Number of Respondents: 210.

Estimated Number of Responses per Respondent: 1.25.

Estimated Total Number of Annual Responses: 263.

Estimated Total Annual Burden on Respondents: 10,520 hours.

Estimate of Burden for Each Form
Form No. | Estimated number of respondents | Frequency of response | Total annual responses | Burden hours per response | Total burden hours
7-21SUMM-C and tabulation sheets | 198 | 1.25 | 248 | 40 | 9,920
7-21SUMM-R and tabulation sheets | 12 | 1.25 | 15 | 40 | 600
Total | 210 | 1.25 | 263 |  | 10,520

Comments

Comments are invited on:

(a) Whether the proposed collection of information is necessary for the proper performance of our functions, including whether the information will have practical use;

(b) Accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to, a collection of information unless it displays a currently valid OMB control number. Reclamation will display a valid OMB control number on the RRA forms.

Before including your address, telephone number, e-mail address, or other personal identifying information in your comment, you should be aware that your entire comment—including your personal identifying information—may be made publicly available at any time. While you can ask us in your comment to withhold your personal identifying information from public review, we cannot guarantee that we will be able to do so.

Roseann Gonzales,
Director, Policy and Administration, Denver Office.

[FR Doc. 2011-12584 Filed 5-20-11; 8:45 am]

BILLING CODE 4310-MN-P